DEPARTMENT OF THE INTERIOR

Bureau of Land Management

[ES-960-1420-BJ] ES-052120, Group No. 10, West Virginia

Eastern States: filing of plat of survey

AGENCY: Bureau of Land Management, Interior.

ACTION: Notice of filing of plat of survey; West Virginia.

SUMMARY: The Bureau of Land Management (BLM) will file the plat of survey of the lands described below in the BLM Eastern States Office, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the National Park Service.

The lands we surveyed are:

New River Gorge National River, Raleigh County, West Virginia

The plat of survey represents the dependent resurvey of a portion of the boundary of Tract Nos. 113-32, Parcels 1 and 2, 113-33, and 118-01 of the New River Gorge National River, Raleigh County, West Virginia, and was accepted March 4, 2004.

We will place a copy of the plat we described in the open files. It will be available to the public as a matter of information.

If BLM receives a protest against this survey, as shown on the plat, prior to the date of the official filing, we will stay the filing pending our consideration of the protest.

We will not officially file the plat until the day after we have accepted or dismissed all protests and they have become final, including decisions on appeals.

Dated: March 4, 2004.
Stephen D. Douglas,
Chief Cadastral Surveyor.

[FR Doc. 04-5618 Filed 3-11-04; 8:45 am]

BILLING CODE 4310-GJ-P